DEPARTMENT OF ENERGY

Federal Energy Regulatory Commission

[Project No. 7987-016]

Up Property 2, LLC; Notice of Intent To Prepare an Environmental Assessment

On October 5, 2023, as supplemented on October 20, 2023, November 3, 2023, and November 13, 2023, UP Property 2, LLC filed an application to surrender the exemption for and remove the High Falls Project No. 7987. The project is located on the Deep River in Moore County, North Carolina. The project does not occupy Federal lands.

The Commission issued a public notice of the application on December 20, 2023, with protests, comments, and motions to intervene due to be filed by January 19, 2024. Commenters filed letters and motions to intervene in support of (American Rivers, Sam Warnock), in opposition to (Moore County), and neutral/not pertaining to (Zachariah Schiada) the proposed surrender and removal of the dam. Filings in support of the application cite benefits to migratory fish species and increased recreation opportunities. Filings in opposition cite water level and water table changes, displacement of fish, and concerns about increased recreation access.

This notice identifies Commission staff's intention to prepare an environmental assessment (EA) for the project. The planned schedule for the completion of the EA is January 2025.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within one year of the agency's decision to prepare an EA.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Shana High at 202-502-8674 or shana.high@ferc.gov or Mary Karwoski at 678-245-3027 or mary.karwoski@ferc.gov.

Dated: February 15, 2024.
Debbie-Anne A. Reese,
Acting Secretary.

[FR Doc. 2024-03610 Filed 2-21-24; 8:45 am]

BILLING CODE 6717-01-P